DEPARTMENT OF DEFENSE

Department of Air Force

[Docket No. USAF-2009-0058]

Privacy Act of 1974; System of Records

AGENCY: Department of Air Force, DoD.

ACTION: Notice to amend a system of records.

SUMMARY: The Department of Air Force proposes to amend a system of records in its inventory of record systems subject to the Privacy Act of 1974 (5 U.S.C. 552a), as amended.

DATES: The changes will be effective on November 6, 2009 unless comments are received that would result in a contrary determination.

ADDRESSES: Send comments to the Air Force Privacy Act Officer, Office of Warfighting Integration and Chief Information Officer, SAF/XCPPI, 1800 Air Force Pentagon, Washington, DC 20330-1800.

FOR FURTHER INFORMATION CONTACT: Mr. Ben Swilley at (703) 696-6172.

SUPPLEMENTARY INFORMATION: The Department of the Air Force systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: September 24, 2009.
Patricia L. Toppings,
OSD Federal Register Liaison Officer, Department of Defense.

F036 AF DP G

SYSTEM NAME:

Leadership Mirror 360 (LM 360) (September 22, 2009, 74 FR 48241).

CHANGES:

System Identifier.

Delete Entry and replace with “F036 AF DP H”.

* * * * *

F036 AF DP H

SYSTEM NAME:

Leadership Mirror 360 (LM 360).

SYSTEM LOCATION:

Headquarters United States Air Force, Directorate of Personnel Force Development, 1040 Air Force Pentagon, Washington, DC 20330-1040.

CATEGORIES OF INDIVIDUALS COVERED BY THE SYSTEM:

Air Force Personnel and DoD civilians who participate in Force Development.

CATEGORIES OF RECORDS IN THE SYSTEM:

First name, last name, middle name (when available), e-mail and mailing address, rank, Major Command (MAJCOM), Air Force Specialty Code (AFSC) and/or Occupational Series, and Electronic Data Interchange-Personal Identifier (EDI-PI).

AUTHORITY FOR MAINTENANCE OF THE SYSTEM:

10 U.S.C. 8013, Secretary of the Air Force; Air Force Instruction (AFI) 36-2640, Executing Total Force Development; and Air Force Policy Directive (AFPD) 36-26, Total Force Development.

PURPOSE(S):

Used to support Force Development (FD) needs of United States Air Force personnel by allowing an invited user to conduct a 360 degree assessment that is designed to collect perception-based feedback for individuals based on Air Force institutional competencies.

ROUTINE USES OF RECORDS MAINTAINED IN THE SYSTEM INCLUDING CATEGORIES OF USERS AND THE PURPOSES OF SUCH USE:

In addition to those disclosures generally permitted under 5 U.S.C. 552A(b) of the Privacy Act of 1974, these records or information contained therein may be specifically disclosed outside the Department of Defense as a routine use pursuant to 5 U.S.C. 552a(b)(3) as follows:

The DoD “Blanket Routine Uses” published at the beginning of the Air Force's compilation of systems of records notices apply to this system.

POLICIES AND PRACTICES FOR STORING, RETRIEVING, ACCESSING, RETAINING, AND DISPOSING OF RECORDS IN THE SYSTEM:

STORAGE:

Paper records and electronic storage media.

RETRIEVABILITY:

Combination of first and last name.

SAFEGUARDS:

Records are accessed by custodian of the record system and by persons responsible for servicing the record system in performance of their official duties that are properly screened and cleared for need-to-know. Records are stored in locked cabinets or rooms, and in computer storage devices and protected by computer system software.

RETENTION AND DISPOSAL:

Data stored digitally within the system is retained only for the period required to satisfy recurring processing requirements and/or historical requirements. Backup data files will be retained for a period not to exceed 45 days. Backup files are maintained only for system restoration and are not to be used to retrieve individual records. Computer records are destroyed by erasing, deleting or overwriting.

SYSTEM MANAGER(S) AND ADDRESS:

Chief, Force Development Integration, Directorate of Personnel Force Development, Headquarters United States Air Force (HQ USAF/A1DI), 1040 Air Force Pentagon, Washington, DC 20330-1040.

NOTIFICATION PROCEDURE:

Individuals seeking to determine whether information about them is contained in this system should address written inquiries to or visit the agency officials at the respective installation education center. Official mailing addresses are published as an appendix to the Air Force's compilation of systems of records notices.

Request must contain full name and current mailing address.

RECORD ACCESS PROCEDURES:

Individuals seeking access to information about them contained in this system of records should address written inquiries to AF/A1DI, 1040 Air Force Pentagon, Washington, DC 20330-1040.

Request must contain full name and current mailing address.

CONTESTING RECORD PROCEDURES:

The Air Force rules for accessing records, and for contesting contents and appealing initial agency determinations are published in Air Force Instruction 33-332, Privacy Act Program; 32 CFR part 806b or may be obtained from the system manager.

RECORD SOURCE CATEGORIES:

Data gathered from the individual, data gathered from other personnel records, transcripts and/or evaluations from schools and test results from testing agencies. Education, training and personnel information is obtained from approved automated system interfaces.

EXEMPTIONS CLAIMED FOR THE SYSTEM:

None.

[FR Doc. E9-24131 Filed 10-6-09; 8:45 am]

BILLING CODE 5001-06-P